DEPARTMENT OF COMMERCE

International Trade Administration

[A-570-822]

Certain Helical Spring Lock Washers from the People's Republic of China: Extension of Time Limit for the Preliminary Results of the 2007-2008 Antidumping Duty Administrative Review

AGENCY: Import Administration, International Trade Administration, Department of Commerce

EFFECTIVE DATE: June 23, 2009.

FOR FURTHER INFORMATION CONTACT: Shelly Atkinson or Brandon Farlander, AD/CVD Operations, Office 1, Import Administration, International Trade Administration, U.S. Department of Commerce, 14th Street and Constitution Avenue, NW, Washington DC 20230; telephone (202) 482-0116 or (202)482-0182, respectively.

SUPPLEMENTARY INFORMATION:

Background

On November 24, 2008, the Department of Commerce (“the Department”) published a notice of initiation of an administrative review of the antidumping duty order on certain helical spring lock washers from the People's Republic of China covering the period October 1, 2007, through September 30, 2008. See Initiation of Antidumping and Countervailing Duty Administrative Reviews, 73 FR 70964 (November 24, 2008). The preliminary results for this administrative review are currently due no later than July 3, 2009.

Extension of Time Limits for Preliminary Results

Section 751(a)(3)(A) of the Tariff Act of 1930, as amended (“the Act”), requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

Because the Department is analyzing the questionnaire response and will issue a supplemental questionnaire shortly, it is not practicable to complete the preliminary results of this review within the original time limit (i.e., July 3, 2009). Therefore, the Department is extending the time limit for completion of the preliminary results to no later than November 2, 2009,¹ in accordance with section 751(a)(3)(A) of the Act.

¹ 120 days from July 3, 2009, is October 31, 2009. However, Department practice dictates that where a deadline falls on a weekend, the appropriate deadline is the next business day. See Notice of Clarification: Application of “Next Business Day” Rule for Administrative Determination Deadlines Pursuant to the Tariff Act of 1930, As Amended, 70 FR 24533 (May 10, 2005).

We are issuing and publishing this notice in accordance with sections 751(a)(3)(A) and 777(i)(1) of the Act.

Dated: June 12, 2009.
John M. Andersen,
Acting Deputy Assistant Secretary for Antidumping and Countervailing Duty Operations.

[FR Doc. E9-14730 Filed 6-22-09; 8:45 am]

BILLING CODE 3510-DS-S